DEPARTMENT OF AGRICULTURE

Rural Utilities Service

Norborne Baseload Plant

AGENCY: Rural Utilities Service, USDA.

ACTION: Notice of Termination of Environmental Impact Statement.

SUMMARY: Notice is hereby given that the Rural Utilities Service (RUS), an agency delivering the United States Department of Agriculture (USDA) Rural Development Utilities Programs, hereinafter referred to as Rural Development or the Agency, is terminating further action by Rural Development on the environmental review process in accordance with the Agency's environmental policies and procedures for the Norborne Baseload Plant (Norborne Plant) in Carroll County, Missouri.

The purpose of the Environmental Impact Statement (EIS) was to evaluate the potential environmental impacts of and alternatives to Associated Electric Cooperative, Incorporated's (AECI) application requesting federal financial assistance from Rural Development to construct the proposed 660 megawatt net supercritical pulverized coal fired power plant, new and modified substations, approximately 134 miles of new 345-kV transmission lines, a utility waste landfill, new rail access from existing mainline railroads, and a water supply system consisting of groundwater wells and associated pipeline. The AECI withdrew their application for federal financial assistance from the Agency on February 12, 2008, and has decided to evaluate non-federal financing options. The notice to prepare an EIS and to hold scoping meetings was published in the Federal Register on August 10, 2005. Four public scoping meetings were conducted in August of 2005. In addition, the Agency held an interagency scoping meeting with state and federal agency stakeholders on August 23, 2005. The Notice of Availability of the Draft EIS was published in the Federal Register on January 11, 2007 with the 45-day public comment period beginning on the date the U.S. Environmental Protection Agency (USEPA) published their receipt of the document. The USEPA's notice was published on January 26, 2007 and the public review period concluded on March 12, 2007. Three public hearings to solicit review comments were held between February 6-8, 2007. A Notice of Availability of the Final EIS was published in the Federal Register on July 13, 2007 with a 30-day public comment period. The comment period was extended to October 28, 2005 through a second notice published in the Federal Register on September 30, 2005.

FOR FURTHER INFORMATION, CONTACT: Stephanie A. Strength, USDA, Rural Development Utilities Programs, 1400 Independence Avenue, SW., Mail Stop 1570, Room 2244, Washington, DC 20250-1570, telephone (202) 720-0468, fax (202) 720-0820, or e-mail: Stephanie.strength@wdc.usda.gov.

Dated: February 28, 2008.
James R. Newby,
Assistant Administrator, Rural Utilities Service.

[FR Doc. E8-4229 Filed 3-4-08; 8:45 am]

BILLING CODE 3410-15-P